DEPARTMENT OF HEALTH AND HUMAN SERVICES

Centers for Disease Control and Prevention

[30Day-16-0853]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Asthma Information Reporting System (AIRS)—Revision—National Center for Environmental Health (NCEH), Centers for Disease Control and Prevention (CDC).

Background and Brief Description

In 1999, the CDC began its National Asthma Control Program (NACP), a public health approach to address the burden of asthma. The program supports the goals and objectives of “Healthy People 2020” for asthma and is based on the public health principles of surveillance, partnerships, interventions, and evaluation. The CDC requests to revise the “Asthma Information Reporting System (AIRS)” (OMB Control No. 0920-0853; expiration date 5/31/2016). Specifically, CDC seeks to make the following changes:

• Rather than using the web-based system, state awardees will use AIRS Excel spreadsheets to report CDC-developed process and outcome performance measures.

• The performance measures will be collected annually, rather than biannually, as previously approved.

The goal of this data collection is to provide NCEH with routine information about the activities and performance of the state and territorial awardees funded under the NACP through an annual reporting system. NACP requires awardees to report activities related to partnerships, infrastructure, evaluation and interventions to monitor the state programs' performance in reducing the burden of asthma. AIRS also includes two forms to collect aggregate ED and HD data from awardees.

AIRS was first approved by OMB in 2010 to collect data in a web-based system to monitor and guide participating state health departments. Since implementation in 2010, AIRS and the technical assistance provided by CDC staff have provided states with uniform data reporting methods and linkages to other states' asthma program information and resources. Thus, AIRS has saved state resources and staff time when asthma programs embark on asthma activities similar to those done elsewhere.

In the past three-years, AIRS data were used to:

• Serve as a resource to NCEH when addressing congressional, departmental and institutional inquiries.

• Help the branch align its current interventions with CDC goals and allowed the monitoring of progress toward these goals.

• Allow the NACP and the state asthma programs to make more informed decisions about activities to achieve objectives.

• Facilitate communication about interventions across states, and enable inquiries regarding interventions by populations with a disproportionate burden, age groups, geographic areas and other variables of interest.

A revision to this data collection is necessary because: (1) The web-based reporting platform is no longer supported by CDC; (2) in collaboration with state asthma programs, reporting requirements have been prioritized to provide specific information on the two main strategies in the associated Funding Opportunity Announcement (FOA): Services and health systems strategies; (3) CDC now endorses limiting state program reporting to once a year; and (4) the number of state awardees has been reduced from 34 to 23 states.

There will be no cost for respondents other than their time to complete the three AIRS spreadsheets annually. The estimated annualized burden hours are 82.

Estimated Annualized Burden Hours
Type of respondents | Form name | Number of respondents | Number of responses per respondent | Average burden response (hours)
State Asthma Program Awardees | AIRS Performance Measures Reporting Spreadsheets | 23 | 1 | 150/60
| AIRS Emergency Department Visits Reporting Form | 23 | 1 | 30/60
| AIRS Hospital Discharge Reporting Forms | 23 | 1 | 30/60

Leroy A. Richardson,
Chief, Information Collection Review Office, Office of Scientific Integrity, Office of the Associate Director for Science, Office of the Director, Centers for Disease Control and Prevention.

[FR Doc. 2016-06885 Filed 3-25-16; 8:45 am]

BILLING CODE 4163-18-P